DEPARTMENT OF HEALTH AND HUMAN SERVICES

Administration for Children and Families

Office of Child Support Enforcement; Statement of Organization, Functions and Delegations; Correction

AGENCY: Office of Child Support Enforcement (OCSE), ACF, DHHS.

ACTION: Notice; correction.

SUMMARY: This notice corrects the Office of Child Support Enforcement Statement of Organization, Functions and Delegations published in the Federal Register on January 29, 2001 (66 FR 8116). It corrects the standard administrative codes, and the responsibilities of one Division; and makes a technical correction.

FOR FURTHER INFORMATION CONTACT: Marilyn R. Cohen, Administration for Children and Families, Office of Child Support Enforcement, 370 L'Enfant Promenade, SW., Washington, DC 20447, Phone: 202-401-5366.

Correction

In the cited issuance on page 8117 in section b. KF.10 Organization, correct the standard administrative codes by removing them and replacing them as follows:

Office of Director/Deputy Director/Commissioner (KFA)

Office of Audit (KFAA)

Office of Grants Management (KFAB)

Office of Mandatory Grants (KFAC)

Office of the Deputy Commissioner (KFB)

Office of Automation and Program Operations (KFB1)

Division of Federal Systems (KFB11)

Division of State and Tribal Systems (KFB12)

Division of Management Services (KFB2)

Division of Consumer Services (KFB3)

Division of Planning, Research, and Evaluation (KFB4)

Division of Policy (KFB5)

Division of Special Staffs (KFB6)

Division of State, Tribal and Local Assistance (KFB7)

Description of Division/Office Changes

In addition, we are making a technical correction by removing the last word of the first paragraph on page 8119, “Tries” and replacing it with “Tribes.”

Also, on page 8119 we are removing in its entirety paragraph KFB6. Division of State, Tribal, and Local Assistance and replacing it with the following:

KFB6. Division of State, Tribal and Local Assistance, in concert with regional offices, provides information and assistance on CSE operations. It provides national direction and leadership for training and technical assistance activities and regional operations to increase CSE program effectiveness both at Federal and State/tribal levels; develops guides and resource materials and serves as a clearinghouse for specialized program techniques for use by ACF regional offices and States and tribes. The Division, through its Technical Assistance Branch, ensures the transfer of best practices among States/tribes and local CSE agencies and coordinates technical assistance nationally. The Division operates a national CSE training center which includes the operation of the National Electronic Resource System; provides logistical support for both training events and meetings; and monitors contracts with organizations affiliated with child support enforcement programs in the areas of training and technical assistance. The Division, through the Special Initiatives Branch, provides outreach and liaison services to a variety of special interest populations.

Dated: March 2, 2001.
Diann Dawson,
Acting Principal Deputy Assistant Secretary, Administration for Children and Families.

[FR Doc. 01-5758 Filed 3-7-01; 8:45 am]

BILLING CODE 4184-01-P